DEPARTMENT OF AGRICULTURE

Animal and Plant Health Inspection Service

[Docket No. APHIS-2012-0004]

Importation of Fresh Barhi Dates From Israel Into the United States

AGENCY: Animal and Plant Health Inspection Service, USDA.

ACTION: Notice.

SUMMARY: We are advising the public that we have prepared a pest risk analysis that evaluates the risks associated with the importation of fresh dates of the cultivar Barhi from Israel into the United States. Based on that analysis, we have concluded that the application of one or more designated phytosanitary measures will be sufficient to mitigate the pest risk. In addition, we are advising the public that we have prepared a treatment evaluation document that describes a new treatment schedule for Ceratitis capitata in Barhi dates. We are making the pest risk assessment and treatment evaluation document available to the public for review and comment.

DATES: We will consider all comments that we receive on or before March 11, 2013.

ADDRESSES: You may submit comments by either of the following methods:

• Federal eRulemaking Portal: Go to http://www.regulations.gov/#!documentDetail;D=APHIS 2012-0004-0001.

• Postal Mail/Commercial Delivery: Send your comment to Docket No. APHIS-2012-0004, Regulatory Analysis and Development, PPD, APHIS, Station 3A-03.8, 4700 River Road, Unit 118, Riverdale, MD 20737-1238.

Supporting documents and any comments we receive on this docket may be viewed at http://www.regulations.gov/#!docketDetail;D=APHIS 2012-0004 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. Marc Phillips, Import Specialist, Regulatory Coordination and Compliance, PPQ, APHIS, 4700 River Road Unit 156, Riverdale, MD 20737; (301) 851-2114.

SUPPLEMENTARY INFORMATION:

Background

Under the regulations in “Subpart—Fruits and Vegetables” (7 CFR 319.56-1 through 319.56-57), the Animal and Plant Health Inspection Service (APHIS) prohibits or restricts the importation of fruits and vegetables into the United States from certain parts of the world to prevent the introduction and dissemination of plant pests that are new to or not widely distributed within the United States.

Section 319.56-4 contains a performance-based process for approving the importation of commodities that, based on the findings of a pest risk analysis, can be safely imported subject to one or more of the designated phytosanitary measures listed in paragraph (b) of that section.

APHIS received a request from the Government of Israel to allow the importation of fresh dates (Phoenix dactylifera L.) of the cultivar Barhi to be imported into the United States. Currently, fresh Barhi dates are not authorized for entry from Israel. We completed a pest risk assessment (PRA) to identify pests of quarantine significance that could follow the pathway of importation if such imports were to be allowed. Based on the PRA, we then completed a risk management document (RMD) to identify phytosanitary measures that could be applied to mitigate the risks of introducing or disseminating the identified pests via the importation of Barhi dates from Israel. We have concluded that fresh Barhi dates can safely be imported into the United States from Israel using one or more of the five designated phytosanitary measures listed in § 319.56-4(b). These measures are that:

• The dates may be imported into the United States in commercial consignments only;

• The dates must be treated in accordance with 7 CFR part 305 for Ceratitis capitata; and

• The dates must be accompanied by a phytosanitary certificate issued by the national plant protection organization of Israel stating that the consignment has begun or has undergone treatment T107-i, with the additional declaration stating that the fruit in the consignment was inspected and found free of Mauginiella scaettae.

Therefore, in accordance with § 319.56-4(c), we are announcing the availability of our PRA for public review and comment. The PRA may be viewed on the Regulations.gov Web site or in our reading room (see ADDRESSES above for instructions for accessing Regulations.gov and information on the location and hours of the reading room). You may also request paper copies of the PRA by calling or writing to the person listed under FOR FURTHER INFORMATION CONTACT. Please refer to the subject of the analysis that you wish to review when requesting copies.

After reviewing any comments we receive, we will announce our decision regarding the import status of fresh Barhi variety dates from Israel in a subsequent notice. If the overall conclusions of the analysis and the Administrator's determination of risk remain unchanged following our consideration of the comments, then we will authorize the importation of fresh Barhi variety dates from Israel into the United States subject to the requirements specified in the RMD.

New Treatment

The phytosanitary treatments regulations contained in part 305 of 7 CFR chapter III set out standards for treatments required in parts 301, 318, and 319 of 7 CFR chapter III for fruits, vegetables, and other articles.

In § 305.2, paragraph (b) states that approved treatment schedules are set out in the Plant Protection and Quarantine (PPQ) Treatment Manual.¹ Section 305.3 sets out a process for adding, revising, or removing treatment schedules in the PPQ Treatment Manual. In that section, paragraph (a) sets out the process for adding, revising, or removing treatment schedules when there is no immediate need to make a change.

¹ The Treatment Manual is available on the Internet at http://www.aphis.usda.gov/import_export/plants/manuals/index.shtml or by contacting the Animal and Plant Health Inspection Service, Plant Protection and Quarantine, Manuals Unit, 92 Thomas Johnson Drive, Suite 200, Frederick, MD 21702.

The PPQ Treatment Manual does not currently provide a treatment schedule for C. capitata in Barhi variety dates. In accordance with § 305.3(a)(1), we are providing notice of a new cold treatment schedule T107-i that we have determined is effective against C. capitata in Barhi variety dates. The reasons for this determination are described in a treatment evaluation document (TED) we have prepared to support this action. The TED may be viewed on the Regulations.gov Web site or in our reading room. You may also request paper copies of the TED by calling or writing to the person listed under FOR FURTHER INFORMATION CONTACT.

After reviewing the comments we receive, we will announce our decision regarding the changes to the Treatment Manual that are described in the TED in a subsequent notice. If our determination that it is necessary to add new treatment schedule T107-i remains unchanged following our consideration of the comments, then we will make available a new version of the PPQ Treatment Manual that reflects the addition of T107-i.

Authority: 7 U.S.C. 450, 7701-7772, and 7781-7786; 21 U.S.C. 136 and 136a; 7 CFR 2.22, 2.80, and 371.3.

Done in Washington, DC, this 2nd day of January, 2013.
Kevin Shea,
Acting Administrator, Animal and Plant Health Inspection Service.

[FR Doc. 2013-00194 Filed 1-8-13; 8:45 am]

BILLING CODE 3410-34-P